Proclamation 7927 of September 9, 2005

National Historically Black Colleges and Universities Week, 2005

By the President of the United States of America

A Proclamation

America's Historically Black Colleges and Universities are places of learning and achievement that reflect our Nation's belief in the great potential of every student. By upholding high standards of excellence and providing equal educational opportunities to all Americans, these valued institutions help ensure that all our citizens can realize their full potential and look forward to a prosperous and hopeful future.

Historically Black Colleges and Universities (HBCUs) are a source of accomplishment and great pride for the African-American community and our entire Nation. By fostering academic achievement, instilling strong values and character, and equipping students with a quality education, they prepare rising generations for success and help fulfill our country's commitment to equal education.

My Administration is committed to supporting HBCUs and making higher education more affordable and more accessible. To ensure that more students have access to a college or university education, I have requested nearly $300 million for HBCUs in my 2006 budget, a record level of funding that would represent an increase in spending for these institutions by 30 percent during my Administration. Through the White House Initiative on Historically Black Colleges and Universities, we are pursuing new ways to strengthen and advance HBCUs through endowments, faculty development, and cooperative research.

America has made significant progress in strengthening our higher education system for all our citizens, and there is more work to do. We continue to strive toward a society in which every person can realize the great promise of America. During National Historically Black Colleges and Universities Week, we recognize the contributions of HBCUs, and we acknowledge and celebrate their role in making America a stronger and better Nation.

NOW, THEREFORE, I, GEORGE W. BUSH, President of the United States of America, by virtue of the authority vested in me by the Constitution and laws of the United States, do hereby proclaim September 11 through September 17, 2005, as National Historically Black Colleges and Universities Week. I call on public officials, educators, administrators, librarians, and all the people of the United States to observe this week with appropriate programs, ceremonies, and activities that demonstrate our appreciation for the many contributions these valuable institutions and their graduates have made to our country.

IN WITNESS WHEREOF, I have hereunto set my hand this ninth day of September, in the year of our Lord two thousand five, and of the Independence of the United States of America the two hundred and thirtieth.

B

[FR Doc. 05-18368

Filed 9-13-05; 8:45 am]

Billing code 3195-01-P